ENVIRONMENTAL PROTECTION AGENCY

[FRL 12353-01-OW]

Notice of Public Environmental Financial Advisory Board Webinar

AGENCY: Environmental Protection Agency (EPA).

ACTION: Notice of public webinar.

SUMMARY: The United States Environmental Protection Agency (EPA) announces a public webinar of the Environmental Financial Advisory Board (EFAB). The purpose of the webinar is to explore strategies for mobilizing private capital in distributed energy generation projects to leverage the government's recent historic $27 billion Greenhouse Gas Reduction Fund (GGRF). This webinar will feature a discussion on the conditions required to attract private capital into distributed generation projects and leveraging GGRF resources, including innovative financing models, risk mitigation strategies, and opportunities for scaling up investments. This webinar is the third in a three-part series that explores strategies for leveraging GGRF resources to attract private capital into GGRF priority sectors. The first webinar, held on July 30, 2024, addressed Net Zero Buildings projects. The second webinar, held on September 19, 2024, addressed Zero Emission Transportation. Written public comments may be provided in advance. No oral public comments will be accepted during the webinar. Please see the SUPPLEMENTARY INFORMATION section for further details.

DATES: The webinar will be held on November 12, 2024, from 2 p.m. to 3:30 p.m. Eastern Time.

ADDRESSES: The webinar will be conducted in a virtual format via webcast only. Information to access the webinar will be provided upon registration in advance.

FOR FURTHER INFORMATION CONTACT: Any member of the public who wants information about the webinar may contact Tara Johnson via telephone/voicemail at (202) 809-7368 or email to efab@epa.gov. General information concerning the EFAB is available at https://www.epa.gov/waterfinancecenter/efab.

SUPPLEMENTARY INFORMATION: Background: The EFAB is an EPA advisory committee chartered under the Federal Advisory Committee Act (FACA), 5 U.S.C. 10, to provide advice and recommendations to the EPA on innovative approaches to funding environmental programs, projects, and activities. Administrative support for the EFAB is provided by the Water Infrastructure and Resiliency Finance Center within the EPA's Office of Water. Pursuant to FACA and EPA policy, notice is hereby given that the EFAB will hold a public webinar for the following purpose: to explore strategies for mobilizing private capital in distributed energy generation projects to leverage the government's recent historic $27 billion GGRF.

Registration for the Webinar: To register for the webinar, please visit https://www.epa.gov/waterfinancecenter/efab#meeting. Interested persons who wish to attend the webinar must register by November 8, 2024. Pre-registration is strongly encouraged.

Availability of Webinar Materials: Webinar materials, including the agenda and associated materials, will be available on the EPA's website at https://www.epa.gov/waterfinancecenter/efab.

Procedures for Providing Public Input: Public comment for consideration by the EPA's Federal advisory committees has a different purpose from public comment provided to the EPA program offices. Therefore, the process for submitting comments to a Federal advisory committee is different from the process used to submit comments to an EPA program office. Federal advisory committees provide independent advice to the EPA. Members of the public may submit comments on matters being considered by the EFAB for consideration as the Board develops its advice and recommendations to the EPA.

Written Statements: Written statements should be received by November 5, 2024, so that the information can be made available to the EFAB for its consideration prior to the webinar. Written statements should be sent via email to efab@epa.gov. Members of the public should be aware that their personal contact information, if included in any written comments, may be posted to the EFAB website. Copyrighted material will not be posted without explicit permission of the copyright holder.

Accessibility: For information on access or services for individuals with disabilities or to request accommodations for a disability, please register for the webinar and list any special requirements or accommodations needed on the registration form at least 10 business days prior to the webinar to allow as much time as possible to process your request.

Andrew D. Sawyers,
Director, Office of Wastewater Management, Office of Water.

[FR Doc. 2024-24786 Filed 10-24-24; 8:45 am]

BILLING CODE 6560-50-P